DEPARTMENT OF AGRICULTURE

Forest Service

National Tree-Marking Paint Committee Meeting

AGENCY: Forest Service, USDA.

ACTION: Notice.

SUMMARY: The National Tree-Marking Paint Committee will meet in Santa Fe, New Mexico on April 24-26, 2001. The purpose of the meeting is to discuss activities related to the use, improvements, concerns, and handling of tree marking paint within the Forest Service and the Department of the Interior's Bureau of Land Management. While certain segments of this meeting are open to the public, other portions are closed for federal government officials' participation only.

DATES: The meeting will be held April 24-26, 2001, from 8 a.m. to 5 p.m.

ADDRESSES: The meeting will be held at the Courtyard Marriott, 3347 Cerrillos Road, Santa Fe, New Mexico 87505.

Send written comments to Bob Monk, National Paint Committee Chair, USDA Forest Service, San Dimas Technology and Development Center, 444 East Bonita Avenue, San Dimas, California 91773.

FOR FURTHER INFORMATION CONTACT: Bob Monk, Project Leader, Forest Service San Dimas Technology and Development Center, (909) 599-1267, extension 267.

SUPPLEMENTARY INFORMATION: The National Tree-Marking Paint Committee is comprised of representatives from the agency's national headquarters, each of the nine regions, the Forest Products Laboratory, the Forest Service's San Dimas California Technology and Development Center, and the Bureau of Land Management. The General Services Administration and the National Institute of Safety and Health are ad hoc members and may provide technical advice to the committee.

A field trip will be held on April 24 to observe forest management activities on the Santa Fe National Forest. This trip is open to public attendance for those participating in the public meeting on April 25. Transportation for non-government individuals is not provided.

The main session of the meeting, which is open to public participation, will be held on April 25 and, if needed, the public participation session may be extended into the morning of April 26. Persons who wish to bring tree-marking paint proposals to the attention of the committee may file written statements with the project leader before or after the meeting. Following the open session, the committee will hold two closed sessions.

The first closed session, reserved for individual presentations by paint manufacturers, will provide an opportunity for them to present products and information about tree marking paint for consideration in future testing or for use by the agency. Companies may also provide comments on tree-marking paint specifications or other requirements. This portion of the meeting is open only to the representative(s) of the company, their guests, and government representatives to ensure that trade secrets will not be disclosed to other paint companies or to the public. Companies or corporations wishing to make presentations to the Tree-Marking Paint Committee during the closed session should contact the project leader at the telephone number listed under FOR FURTHER INFORMATION CONTACT. The second closed session is reserved for federal government employees only and will be held April 26.

Any person with special access needs should contact the project leader to make those accommodations. Space for individuals who are not members of the National Tree-Marking Paint Committee is limited and will be available to the public on a first-come, first-served basis.

Dated: March 14, 2001.
James R. Furnish,
Deputy Chief, National Forest System.

[FR Doc. 01-6858 Filed 3-19-01; 8:45 am]

BILLING CODE 3410-11-M